DEPARTMENT OF STATE

[Public Notice 3868]

Culturally Significant Objects Imported for Exhibition; Determinations: “Treasures of the Russian Czars”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “Treasures of the Russian Czars,” imported from abroad for temporary exhibition within the United States, are of cultural significance. The objects are imported pursuant to a loan agreement with the foreign owners. I also determine that the exhibition or display of the exhibit objects at Wonders, Memphis, TN from on or about April 15, 2002 to on or about September 15, 2002, the Kansas International Museum, Topeka, KS from on or about October 15, 2002 to on or about March 15, 2003, and possible additional venues yet to be determined, is in the national interest. Public Notice of these determinations is ordered to be published in the Federal Register.

FOR FURTHER INFORMATION CONTACT: For further information, including a list of the exhibit objects, contact Carol B. Epstein, Attorney-Adviser, Office of the Legal Adviser, U.S. Department of State, (telephone: 202/619-6981). The address is U.S. Department of State, SA-44, 301 4th Street, SW., Room 700, Washington, DC 20547-0001.

Dated: December 13, 2001.
Patricia S. Harrison,
Assistant Secretary for Educational and Cultural Affairs, United States Department of State.

[FR Doc. 01-32228 Filed 12-31-01; 8:45 am]

BILLING CODE 4710-08-P